DEPARTMENT OF AGRICULTURE

Animal and Plant Health Inspection Service

[Docket No. APHIS-2015-0046]

Notice of Availability of Treatment Evaluation Documents and Supplemental Environmental Assessment for Pesticide Use for the Imported Fire Ant Program

AGENCY: Animal and Plant Health Inspection Service, USDA.

ACTION: Notice of availability.

SUMMARY: We are advising the public that we have determined that it is necessary to add to the Plant Protection and Quarantine Treatment Manual two treatment options for use in controlling imported fire ant. We have prepared treatment evaluation documents that describe the new treatment options and provide justification as to why they are effective at neutralizing imported fire ant. In addition, we have prepared a supplemental environmental assessment to update the existing environmental assessment for imported fire ant treatments. We are making the treatment evaluation documents and the supplemental environmental assessment available for review and comment.

DATES: We will consider all comments that we receive on or before October 13, 2015.

ADDRESSES: You may submit comments by either of the following methods:

• Federal eRulemaking Portal: Go to http://www.regulations.gov/#!docketDetail;D=APHIS-2015-0046.

• Postal Mail/Commercial Delivery: Send your comment to Docket No. APHIS-2015-0046, Regulatory Analysis and Development, PPD, APHIS, Station 3A-03.8, 4700 River Road Unit 118, Riverdale, MD 20737-1238.

Supporting documents and any comments we receive on this docket may be viewed at http://www.regulations.gov/#!docketDetail;D=APHIS-2015-0046 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Charles L. Brown, Imported Fire Ant Quarantine Policy Manager, Plant Health Programs, PPQ, APHIS, 4700 River Road Unit 39, Riverdale, MD 20737; (301) 851-2119.

SUPPLEMENTARY INFORMATION: The regulations in 7 CFR chapter III are intended, among other things, to prevent the introduction or dissemination of plant pests and noxious weeds into or within the United States. Under the regulations, certain plants, fruits, vegetables, and other articles must be treated before they may be moved into the United States or interstate. The phytosanitary treatments regulations contained in part 305 of 7 CFR chapter III (referred to below as the regulations) set out standards for treatments required in parts 301, 318, and 319 of 7 CFR chapter III for fruits, vegetables, and other articles.

Section 305.3 of the regulations sets forth a notice-based process for adding, revising, and removing the treatments from the Plant Protection and Quarantine (PPQ) ¹ Treatment Manual. In that section, paragraph (b) sets out the process for adding, revising, or removing treatment schedules when there is an immediate need to make a change. The circumstances in which an immediate need exists are described in § 305.3(b)(1).

¹ The PPQ Treatment Manual is available at http://www.aphis.usda.gov/import_export/plants/manuals/index.shtml or by contacting the Animal and Plant Health Inspection Service, Plant Protection and Quarantine, Manuals Unit, 92 Thomas Johnson Drive, Suite 200, Frederick, MD 21702.

• PPQ has determined that an approved treatment schedule is ineffective at neutralizing the targeted plant pest(s);

• PPQ has determined that, in order to neutralize the targeted plant pest(s), the treatment schedule must be administered using a different process than was previously used;

• PPQ has determined that a new treatment schedule is effective, based on efficacy data, and that ongoing trade in an article or articles may be adversely impacted unless the new treatment schedule is approved for use; or

• The use of a treatment schedule is no longer authorized by the U.S. Environmental Protection Agency or by any other Federal entity.

In order to limit the artificial spread of the imported fire ant (IFA), domestic movement of all nursery stock (containerized or balled-and-burlapped) and grass sod from IFA-infested areas of the United States to uninfested areas is regulated under 7 CFR 301.81-2. Specifically, the Animal and Plant Health Inspection Service (APHIS) uses ant bait products in conjunction with chemical treatment to prevent the artificial spread and dissemination of IFA. The quarantine requirements involve the use of chemical treatments on commodities to insure that shipments from nurseries, sod farms, and field-growing nursery facilities are free of IFA. Changes in availability of insecticides that are effective against IFA, as well as ensuring a range of pest management options, requires APHIS to periodically evaluate new treatment options.

Currently, ant bait products are used in conjunction with the application of a chlorpyrifos (insecticide) drench treatment to prevent the artificial spread of IFA. Although effective, we have determined that it is necessary to modify the technique used to apply drench treatment to increase the effectiveness of the treatment. In addition, we are adding two options to the list of insecticidal baits that are already approved for use for IFA. The additional insecticidal baits are being added to provide a broader range of chemical treatment options and are not being proposed as additional treatments beyond what is currently required in the quarantine program. Both products have commercial uses in nurseries and will give growers additional options for the bait treatment of field grown nursery stock or for use in the imported fire ant detection, control, exclusion, and enforcement program for nurseries producing containerized plants (7 CFR 301.81-11).

Therefore, APHIS has added two additional insecticidal baits, Abamectin and Metaflumizone, to the list of chemicals already allowed in the IFA program and modified a drench treatment (Chlorpyrifos) for balled-and-burlapped nursery stock for use in control of IFA.

The reasons for these changes are further described in two treatment evaluation documents (TEDs) we have prepared to support this action. In addition, we have prepared a supplemental environmental assessment (EA) to include the human and environmental impacts that can be reasonably expected to occur as a result of the new treatment options available for controlling IFA; as described in the new treatment evaluation documents. The TEDs and supplemental EA may be viewed on the Regulations.gov Web site or in our reading room (see ADDRESSES above for a link to Regulations.gov and information on the location and hours of the reading room). You may also request paper copies of the TEDs and EA by calling or writing to the person listed under FOR FURTHER INFORMATION CONTACT.

After the close of the comment period, APHIS will publish a notice announcing our final determination and, if appropriate, any changes we made as a result of the comments.

Authority: 7 U.S.C. 7701-7772 and 7781-7786; 21 U.S.C. 136 and 136a; 7 CFR 2.22, 2.80, and 371.3.

Done in Washington, DC, this 5th day of August 2015.
Kevin Shea,
Administrator, Animal and Plant Health Inspection Service.

[FR Doc. 2015-19700 Filed 8-10-15; 8:45 am]

BILLING CODE 3410-34-P